DEPARTMENT OF THE INTERIOR

Bureau of Land Management

[17XL LLID930000 L11100000.DF0000 LXSGPL000000 4500103385]

Notice of Intent To Prepare Two Great-Basin-Wide Programmatic Environmental Impact Statements to Reduce the Threat of Wildfire and Support Rangeland Productivity

AGENCY: Bureau of Land Management, Interior.

ACTION: Notice.

SUMMARY: In compliance with the National Environmental Policy Act of 1969, as amended (NEPA), and the Federal Land Policy and Management Act of 1976, as amended (FLPMA), the Bureau of Land Management (BLM) intends to prepare two programmatic Environmental Impact Statements (EISs) for BLM Districts in the Great Basin region. By this Notice BLM is announcing the beginning of the scoping process to solicit public comments and identify issues to be addressed in the environmental analyses.

DATES: This Notice initiates the public scoping process for the two programmatic EISs. Comments on issues may be submitted in writing until February 20, 2018. The date(s) and location(s) of any scoping meetings will be announced at least 15 days in advance through local media, newspapers and the BLM website at: https://go.usa.gov/xnQcG. In order for comments to be considered for the draft programmatic EISs, all comments must be received prior to the close of the 60-day scoping period or 15 days after the last public meeting, whichever is later. We will provide additional opportunities for public participation upon publication of the draft programmatic EISs.

ADDRESSES: You may submit comments related to the programmatic EISs by any of the following methods:

• Website: https://go.usa.gov/xnQcG.

• Email: GRSG_PEIS@blm.gov.

• Fax: 208-373-3805.

• Mail: Jonathan Beck, 1387 S. Vinnell Way, Boise, ID 83709.

FOR FURTHER INFORMATION CONTACT: Jonathan Beck, Project Manager Boise Support Team, telephone 208-373-3841; address 1387 S. Vinnell Way, Boise ID 83709; email jmbeck@blm.gov. Contact Mr. Beck to add your name to our mailing list. Persons who use a telecommunications device for the deaf (TDD) may call the Federal Relay Service (FRS) at 1-800-877-8339 to contact the above individual. The FRS is available 24 hours a day, 7 days a week, to leave a message or question with Mr. Beck. You will receive a reply during normal business hours.

SUPPLEMENTARY INFORMATION: The BLM is proposing to develop two programmatic EISs: (1) Fuel Breaks Programmatic EIS and (2) Fuels Reduction and Rangeland Restoration Programmatic EIS. One EIS will analyze potential effects of constructing fuel breaks and the other EIS will analyze potential effects of reducing fuel loading, and restoring rangeland productivity within the Great Basin region, which includes portions of the states of Idaho, Oregon, Nevada, California, Utah, and Washington.

Both projects would protect and conserve natural habitats from loss resulting from wildfires and the spread of invasive species. Although these proposals are similar, they have different purposes. The purpose of the Fuel Breaks Programmatic EIS is the protection of life and property and to reduce the threat and size of wildfires on western rangelands. The purpose of the Fuels Reduction and Rangeland Restoration Programmatic EIS is to restore the rangelands habitat so they provide multiple use opportunities for all user groups and habitat for the hundreds of plants and animals that define this iconic landscape.

The BLM is proposing to prepare these analyses concurrently to gain efficiencies in scoping and effects analyses. The goal of these programmatic EISs is to analyze the region-wide and cumulative impacts of the proposed actions and to gain efficiencies in subsequent National Environmental Policy Act (NEPA) analyses required for individual projects.

Purpose

The programmatic EISs would expedite the development, enhancement, maintenance and utilization of fuel breaks, fuels reduction, and rangeland restoration for the protection, recovery, and conservation of natural western habitats in the Great Basin region. The projects would reduce the threat of habitat loss from fires and restore habitat to maintain the rangeland's productivity and support the western lifestyle. Fuel breaks act as fire-anchor points and firefighter staging areas; provide protection of ongoing and pending habitat restoration projects; and assist in quicker and earlier fire suppression response times, thereby reducing wildfire risk, aiding in the protection of human life and property, protecting taxpayer investment in habitat restoration projects, and improving western landscapes by offering multiple use opportunities. The restoration will replace invasive species with native habitat, decreasing the continuous cover of annual grasses that fuel large wildfires.

Need

Large-scale wildfires have increased significantly throughout the western United States in recent years, particularly in sagebrush-steppe ecosystems, resulting in the widespread loss of sagebrush-steppe vegetation. These wildfires are largely a result of continuous fuel loading, caused by widespread increases in invasive annual grasses and very large areas of continuous sagebrush cover. In the last decade, fires have exceeded 100,000 acres on a regular basis, and the number of areas that burn again before habitat can establish has increased. These large-scale wildfires, with very high to extreme burning conditions, have resulted in increased numbers of injuries and deaths among wildland firefighters and increased destruction of private property and habitat loss for a variety of species. Wildfires have resulted in widespread impacts to healthy sage-lands quality, and have hampered BLM's ability to maintain productive lands. These large-scale, repeated wildfires facilitate the spread of invasive annual grasses, further reducing rangeland quality and availability, thereby adversely affecting sagebrush-recovery rates or, in some instances, preventing recovery altogether. In warm, dry settings, sagebrush-steppe usually takes, at a minimum, many decades to recover, even where invasive annual grasses or other invasive plant species do not become dominant. Invasive species and conifer encroachment can be exacerbated as a result of wildfires in sagebrush ecosystems, resulting in an increased risk of wildfires (positive feedback loop). By compartmentalizing desirable vegetation and providing safer access for firefighters, fuel breaks aid in decreasing potential habitat loss from wildfires, protecting habitat restoration areas, and combatting the spread of invasive species, i.e., decreasing or eliminating this positive feedback loop. By restoring native habitat, invasive species that are helping to fuel these unnaturally large fires will be reduced or removed, making the rangelands more resistant to future wildfires.

The programmatic EISs, once implemented, will provide for increased firefighter safety in the event of wildfires and faster response times to wildfires. They will also assist in the maintenance, protection and restoration of the iconic sagebrush western landscape.

The programmatic EISs will provide a mechanism for the BLM to streamline any future NEPA processes pertaining to fuel breaks, fuels reduction, and rangeland restoration proposals in the Great Basin region.

Scoping and Preliminary Issues

The public scoping process is conducted to determine relevant issues that will influence the scope of the environmental analysis, including alternatives, and guide the process for developing the programmatic EISs. At present, the BLM has identified the following preliminary issues:

1. Fuel break construction and associated road improvement for firefighter access could increase human activity in remote areas and introduce noxious and invasive weeds and increase the incidence of human-caused wildfires.

2. Fuel break construction could remove or alter sagebrush habitat, rendering it unusable for some species.

3. Fuel break construction on either side of existing roads may create movement barriers to small-sized wildlife species by reducing hiding cover.

4. Fuel break construction in highly resistant and resilient habitats may not be necessary because those sites are less likely to burn or will respond favorably to natural regeneration.

5. After habitat restoration treatments, historic uses such as livestock grazing and recreation activities may be temporarily halted until the treatment becomes established and objectives are met.

6. Fuel reduction treatments in pinyon/juniper could disrupt traditional tribal use of these sites.

7. The use of non-native species in fuel breaks could affect listed species and affect species composition in adjacent native plant communities.

Project design features would be used to minimize impacts to rangelands, sensitive species habitat, cultural sites and watersheds, and to limit introduction and spread of noxious and invasive weeds.

The BLM will use and coordinate the NEPA scoping process to help fulfill the public involvement requirements under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with Tribes and other stakeholders that may be interested in or affected by the proposed fuel break, fuel reduction, and rangeland restoration programmatic proposals that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Timothy M. Murphy,
BLM Idaho State Director.

[FR Doc. 2017-27595 Filed 12-21-17; 8:45 am]

BILLING CODE 4310-AK-P